ELECTION ASSISTANCE COMMISSION

Sunshine Act Meetings

AGENCY: U.S. Election Assistance Commission.

ACTION: Sunshine Act notice; notice of public meeting agenda.

SUMMARY: U.S. Election Assistance Commission and National Institute of Standards and Technology to hold a virtual workshop on “The Path to End to End (E2E) Protocols for Voting Systems.”

DATES: Thursday, October 6, 1:00-5:00 p.m. Eastern and Friday, October 7, 2022, 1-5 p.m. Eastern.

ADDRESSES: Virtual via Webex.

The official meeting is open to the public. Registration for the event is available at the following link: https://www.nccoe.nist.gov/get-involved/attend-events/path-end-end-e2e-protocols-voting-systems.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct a virtual workshop in partnership with the National Institute of Standards and Technology (NIST) on “The Path to End to End (E2E) Protocols for Voting Systems.”

Agenda: The EAC, in collaboration with NIST, is initiating a process to publicly solicit, evaluate, and approve protocols used in end to end (E2E) cryptographically verifiable voting systems for conformance to the recently revised Voluntary Voting System Guidelines, Version 2.0 (VVSG 2.0). During this two-day virtual workshop, multiple panel groups will discuss the plan and further develop the protocol requirements and evaluation criteria.

Panels will include state and local election officials, representatives from federal agencies, staff from voting system manufacturers and voting system test labs, and subject matter experts. Topics addressed in these panels include integrity and voter confidence, security, accessibility and human factor considerations, and testing and implementation of E2E in voting systems. There will also be a keynote address on E2E in voting systems.

The workshop is open to the public but registration is required so that webinar connection details can be shared with attendees. Questions about registration can be directed to e2einfo@eac.gov.

The full agenda will be posted in advance on the EAC website: https://www.eac.gov/events/2022/10/06/path-end-end-e2e-protocols-voting-systems and at https://www.nccoe.nist.gov/get-involved/attend-events/path-end-end-e2e-protocols-voting-systems.

Following the event, a recording will be posted on the EAC's website: https://www.eac.gov/events/2022/10/06/path-end-end-e2e-protocols-voting-systems.

Background: On February 10, 2021, the EAC Commissioners unanimously approved the most recent iteration of federal voting system standards, VVSG 2.0.

Principle 9, “Auditable,” of VVSG 2.0 states that voting systems must be auditable and enable evidence-based elections. This principle is supported by the concept of software independence (SI), meaning that an undetected error or fault in the voting system's software is not capable of causing an undetectable change in election results. The VVSG 2.0 requirements specify that E2E cryptographic protocols used in voting systems must be evaluated and approved through a public process established by the EAC, prior to the E2E verifiable voting system being submitted to the EAC's Testing and Certification Program. This workshop is to discuss further development of requirements and evaluation criteria for the public E2E protocol evaluation process.

Status: This meeting will be open to the public.

Camden Kelliher,
Associate Counsel, U.S. Election Assistance Commission.

[FR Doc. 2022-20366 Filed 9-15-22; 4:15 pm]

BILLING CODE 6820-KF-P